DEPARTMENT OF THE TREASURY

Customs Service

[T.D. 01-42]

Customs Accreditation of Robinson International (USA) Incorporated as a Commercial Laboratory

AGENCY: U.S. Customs Service, Department of the Treasury.

ACTION: Notice of Accreditation of Robinson International (USA) Inc. of Houston, Texas, as a Commercial Laboratory.

SUMMARY: Robinson International (USA) Inc. of Houston, Texas, has applied to U.S. Customs under Part 151.12 of the Customs Regulations for accreditation as a commercial laboratory to analyze petroleum product under Chapter 27 and Chapter 29 of the Harmonized Tariff Schedule of the United States (HTSUS). Customs has determined that this company meets all of the requirements for accreditation as a commercial laboratory. Specifically, Robinson International (USA) Inc. has been granted accreditation to perform the following tests methods only: (1) API Gravity by Hydrometer, ASTM D287; (2) Percent by Weight of Sulfur by X-Ray Fluorescence, ASTM D4294; (3) Sediment in Crude Oils and Fuel Oils by Extraction, ASTM D473; (4) Water in Crude Oil by Distillation, ASTM D4006. Therefore, in accordance with Part 151.12 of the Customs Regulations, Robinson International (USA) Inc. of Houston, Texas, is hereby accredited to analyze the products named above.

Location: Robinson International (USA) Inc. accredited site is located at: 4500 South Wayside Drive, #101, Houston, Texas, 77207.

EFFECTIVE DATE: June 1, 2001.

FOR FURTHER INFORMATION CONTACT: Michael Parker, National Quality Manager, Laboratories and Scientific Services, U.S. Customs Service, 1300 Pennsylvania Avenue, NW., Suite 1500 North, Washington, DC 20229, (202) 927-1060.

Dated: May 30, 2001.
Ira S. Reese,
Executive Director, Laboratories and Scientific Services.

[FR Doc. 01-14060 Filed 6-4-01; 8:45 am]

BILLING CODE 4820-02-P